FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—10/13/2006
20061803 | Medical Action Industries Inc | Medegen Holdings, LLC | Medegen Newco, LLC
Transactions Granted Early Termination—10/16/2006
20061854 | Overseas Shipholding Group, Inc | Maritrans Inc | Maritrans Inc.
20061856 | CCMP Capital Investors II, L.P | Restatement o/t Robert & Patricia Kern '92 R/T of 1/9/98 | Generac Power Systems, Inc.
20061859 | BNS Holding, Inc | Collins Industries, Inc | Collins Industries, Inc.
20061862 | Allyn C. Ford | Koch Industries, Inc | Georgia-Pacific Corporation.
20061866 | Lonnie A. Pilgrim | Gold Kist Inc | Gold Kist Inc.
20061867 | Novartis AG | Cell Therapeutics, Inc | Cell Therapeutics Europe S.r.l.
20061873 | Kellwood Company | John Paul Richard, Inc | CRL Group, LLC.
20061874 | D.E. Shaw Oculus International Fund | Owens Corning | Owens Corning.
20061875 | D.E. Shaw Composite International Fund | Owens Corning | Owens Corning.
20070007 | TA X L.P | S & B Industries Inc | S & B Industries Inc
20070008 | TA Atlantic and Pacific V L.P | S & B Industries Inc | S & B Industries Inc.
20070009 | Chandler Trust No. 2 | Tribune Company | Tribune Company.
20070010 | Chandler Trust No. 1 | Tribune Company | Tribune Company.
20070014 | KRG Capital Fund III, L.P | Tecta America Corp | Tecta America Corp.
20070015 | Arthur and Yvonne Liu | The Edward W. Scripps Trust | Scripps Shop At Home, Inc., WRAY, Inc., WSAH, Inc., WSAH Licensee, Inc.
20070016 | HealthCare Partners Medical Group | Jupiter Partners II L.P | JSA Holdings, Inc.
20070017 | Firestone Holdings LLC | Freescale Semiconductor, Inc | Freescale Semiconductor, Inc.
20070020 | Tata Sons Limited | Energy Brands Inc | Energy Brands Inc.
20070022 | Millennium Pharmaceuticals, Inc | AnorMED Inc | AnorMED Inc.
20070024 | FR X Offshore, L.P | Acteon Group Limited | Acteon Group Limited.
20070025 | Parthenon Investors II, L.P | ADPI Holding, Inc | ADPI Holding, Inc.
20070028 | Kelso AIV VII, L.P | Voting Trust—Hallmark Cards, Incorporated | Crown Media Distribution, LLC.
20070038 | Cavalier Telephone Corporation | Talk America Holdings, Inc | Talk America Holdings, Inc.
20070047 | Roark-Carvel LLC | BDC Family Limited Partnership | Schlotzsky's Ltd., Schlotzsky's Real Estate Holdings, Ltd.
Transactions Granted Early Termination—10/17/2006
20061319 | Thermo Electron Corporation | Fisher Scientific International Inc | Fisher Scientific International Inc.
20061833 | Apollo Investment Fund IV, L.P | Sky Terra Communications, Inc | Sky Terra Communications, Inc.
20070031 | The Principal Financial Group, Inc | Washington Mutual, Inc | WM Advisors, Inc.
Transactions Granted Early Termination—10/18/2006
20061794 | Weyerhaeuser TIA, Inc | Domtar Inc | Domtar Inc.
20070013 | Pfizer Inc | Mr. Ronald O. Perelman | Trans Tech Pharma, Inc.
Transactions Granted Early Termination—10/20/2006
20061382 | Barr Pharmaceuticals, Inc | PLIVA d.d | PLIVA d.d.
Transactions Granted Early Termination—10/23/2006
20070006 | Amgen Inc | Avidia, Inc | Avidia, Inc.
20070021 | Dr. Ernst Volgenau | Robert A. Baruch | RABA Technologies, LLC.
20070023 | Green Equity Investors IV, L.P | Motorsport Aftermarket Group, Inc | Motorsport Aftermarket Group, Inc.
20070033 | Brockway Moran & Partners Fund II, L.P | Quad-C Partners VI, L.P | MWI Acquisition, Inc.
20070044 | The Resolute Fund L.P | Jordan Industries, Inc | Kinetek, Inc.
20070050 | DCP Midstream Partners, LP | Duke Energy Corporation | Gas Supply Resources LLC.
20070051 | DCP Midstream Partners, LP | ConocoPhillips | Gas Supply Resources LLC.
20070052 | GGC Investment Fund II, L.P | Duke and Gael Habernickel | Haband Company, Inc.
20070053 | Francisco Partners II, L.P | Metrologic Instruments, Inc | Metrologic Instruments, Inc.
20070058 | Munder Capital Holdings, LLC | Comerica Incorporated | Munder Capital Management.
20070065 | INVEST Tools Inc | thinkorswim Group, Inc | thinkorswim Group, Inc.
20070068 | Lam Research Corporation | Bullen Ultrasonics, Inc | Bullen Ultrasonics, Inc.
Transactions Granted Early Termination—10/24/2006
20070046 | General Atlantic-Partners 83B, L.P | Emdeon Corporation | EBS Master LLC.
20070074 | Wicks Communications & Media Partners III, L.P | Mr. Sumner M. Redstone | CBS Radio Holdings Inc., CBS Radio Stations Inc.
Transactions Granted Early Termination—10/25/2006
2006159 | Live Nation, Inc | HOB Entertainment, Inc | HOB Entertainment, Inc.
20061841 | Compagnie Generale de Geophysique | Veritas DGC Inc | Veritas DGC Inc.
20061846 | WPS Resources Corporation | Peoples Energy Corporation | Peoples Energy Corporation.
20070048 | Brambles Industries plc | Brambles Industries Limited | Brambles Industries Limited.
20070049 | Brambles Industries Limited | Brambles Industries plc | Brambles Industries plc.
20070059 | Gilead Sciences, Inc | Myogen, Inc | Myogen, Inc.
20070063 | Superior Energy Services, Inc | Warrior Energy Services Corporation | Warrior Energy Services Corporation.
Transactions Granted Early Termination—10/26/2006
20070001 | Becton, Dickinson and Company, Inc | TriPath Imaging, Inc | TriPath Imaging, Inc.
20070019 | Sumner M. Redstone | Harmonix Music Systems, Inc | Harmonix Music Systems, Inc.
Transactions Granted Early Termination—10/27/2006
20070101 | IAWS Group plc | Code Hennessy & Simmons IV LP | Otis Spunkmeyer Holdings, Inc.

FOR FURTHER INFORMATION CONTACT: Sandra M. Peay, Contact Representative, or Renee Hallman, Contact Representative, Federal Trade Commission, Premerger Notification Office, Bureau of Competition, Room H-303, Washington, DC 20580, (202) 326-3100.

By direction of the Commission.
Donald S. Clark,
Secretary.

[FR Doc. 06-9376 Filed 11-22-06; 8:45 am]

BILLING CODE 6750-01-M